DEPARTMENT OF TRANSPORTATION

Federal Aviation Administration

14 CFR Part 39

[Docket No. 2003-NE-47-AD; Amendment 39-13352; AD 2003-22-05]

RIN 2120-AA64

Airworthiness Directives; Hartzell Propeller Inc. Model HC-A6A-3 Series Propellers.

AGENCY: Federal Aviation Administration (FAA), DOT.

ACTION: Final rule; request for comments.

SUMMARY: The FAA is adopting a new airworthiness directive (AD) for Hartzell Propeller Inc. model HC-A6A-3 series propellers with A10460 series composite blades. This AD requires initial and repetitive visual inspections of A10460 series composite blades for cracks. This AD is prompted by reports of cracks in propeller blades, including an in-flight separation of a blade that caused damage to the airplane. We are issuing this AD to prevent separation of the propeller blade due to possible fatigue failure, which could result in damage to the airplane and possible loss of control of the airplane.

DATES: This AD becomes effective November 13, 2003.

We must receive any comments on this AD by December 29, 2003.

ADDRESSES: Use one of the following addresses to submit comments on this AD:

• By mail: The Federal Aviation Administration (FAA), New England Region, Office of the Regional Counsel, Attention: Rules Docket No. 2003-NE-47-AD, 12 New England Executive Park, Burlington, MA 01803-5299.

• By fax: (781) 238-7055.

• By e-mail: 9-ane-adcomment@faa.gov

You can get the service information referenced in this AD from Hartzell Propeller Inc. Technical Publications Department, One Propeller Place, Piqua, OH 45356; telephone (937) 778-4200; fax (937) 778-4391.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: Tomaso DiPaolo, Aerospace Engineer, Chicago Aircraft Certification Office, FAA, Small Airplane Directorate, 2300 East Devon Avenue, Des Plaines, IL 60018; telephone: (847) 294-7031; fax: (847) 294-7834.

SUPPLEMENTARY INFORMATION: On July 31, 2003, a model A10460 series composite propeller blade separated from a model HC-A6A-3 series propeller while in flight and damaged the airplane. The model HC-A6A-3 series propeller was installed on the right-hand engine on a Short Brothers Ltd. SD3-60 Variant 200 airplane, commonly referred to as a Series 300 airplane. The manufacturer of the propeller issued an alert service bulletin (ASB) on September 10, 2003 to require initial and repetitive visual inspections of the composite blades for cracks. On September 12, the manufacturer reported that another cracked blade was found on an airplane when the propellers were inspected using the ASB. Because the manufacturer and the FAA are continuing their investigations into the causes of the cracks, there is no terminating action for the repetitive inspections.

Relevant Service Information

We have reviewed and approved the technical contents of Hartzell Propeller Inc. ASB No. HC-ASB-61-265, dated September 10, 2003, that describes procedures for visually inspecting the composite propeller blade on-wing and at overhaul.

FAA's Determination and Requirements of this AD

The unsafe condition described previously is likely to exist or develop on other Hartzell Propeller, Inc. propellers of the same type design. We are issuing this AD to prevent separation of the propeller blade due to possible fatigue failure, which could result in damage to the airplane and possible loss of control of the airplane. This AD requires:

• An initial visual inspection of the propeller blades for cracks within 100 flight hours after the effective date of this AD, but no later than 30 days after the effective date of this AD; and

• Repetitive visual inspections of the propeller blades for cracks at intervals of 300 flight hours and at every overhaul, and

• Replacing any cracked blade before further flight.

FAA's Determination of the Effective Date

Since an unsafe condition exists that requires the immediate adoption of this AD, we have found that notice and opportunity for public comment before issuing this AD are impracticable, and that good cause exists for making this amendment effective in less than 30 days.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Interim Action

These actions are interim actions and we may take further rulemaking actions in the future.

Comments Invited

This AD is a final rule that involves requirements affecting flight safety and was not preceded by notice and an opportunity for public comment; however, we invite you to submit any written relevant data, views, or arguments regarding this AD. Send your comments to an address listed under ADDRESSES. Include “AD Docket No. 2003-NE-47-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You can get more information about plain language at http://www.faa.gov/language and http://www.plainlanguage.gov.

Examining the AD Docket

You may examine the AD Docket (including any comments and service information), by appointment, between 8 a.m. and 4:30 p.m., Monday through Friday, except Federal holidays. See ADDRESSES for the location.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-47-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-22-05 Hartzell Propeller Inc.: Amendment 39-13352. Docket No. 2003-NE-47-AD.

Effective Date

(a) This airworthiness directive (AD) becomes effective November 13, 2003.

Affected ADs

(b) None.

Applicability

(c) This AD applies to Hartzell Propeller Inc. model HC-A6A-3 series propellers with A10460 series composite blades installed. These propellers are installed on, but not limited to, Short Brothers Ltd. SD3-60 Series airplanes.

Unsafe Condition

(d) This AD was prompted by reports of cracks in propeller blades, including an in-flight separation of a blade that caused damage to the airplane. We are issuing this AD to prevent separation of the propeller blade due to possible fatigue failure, which could result in damage to the airplane and possible loss of control of the airplane.

Compliance

(e) You are responsible for having the actions required by this AD performed within the compliance times specified unless the actions have already been done.

Initial On-wing Visual Inspection

(f) Perform an initial on-wing visual inspection of the A10460 series composite propeller blades for cracks within 100 flight hours (FH) after the effective date of this AD, but do not exceed 30 days after the effective date of this AD. You can find information on inspecting for cracks in Hartzell Propeller Inc. Alert Service Bulletin (ASB) No. HC-ASB-61-265.

(g) If you find a crack, replace the blade before further flight.

Repetitive Inspections

(h) Thereafter, perform a visual inspection of the A10460 series composite propeller blades for cracks within intervals of 300 FH since-last-inspection. You can find information on inspecting for cracks in Hartzell Propellers Inc. ASB No. HC-ASB-61-265.

(i) If you find a crack, replace the blade before further flight.

(j) At each propeller overhaul, inspect the A10460 series composite propeller blades for cracks. You can find information on inspecting for cracks in Hartzell Propellers Inc. ASB No. HC-ASB-61-265.

(k) If you find a crack, replace the blade.

Alternative Methods of Compliance

(l) The Manager, Chicago Aircraft Certification Office, has the authority to approve alternative methods of compliance for this AD if requested using the procedures found in 14 CFR 39.19.

Material Incorporated by Reference

(m) None.

Related Information

(n) Hartzell Propellers Inc. Alert Service Bulletin No. HC-ASB-61-265 contains information on inspecting the propeller blades for cracks.

Issued in Burlington, Massachusetts, on October 22, 2003.
Peter A. White,
Acting Manager, Engine and Propeller Directorate, Aircraft Certification Service.

[FR Doc. 03-27102 Filed 10-28-03; 8:45 am]

BILLING CODE 4910-13-P